DEPARTMENT OF HEALTH AND HUMAN SERVICES

Office of Inspector General

Delegation of Authority

Notice is hereby given that I have delegated to the Inspector General, Office of Inspector General, the authority vested in the Secretary of Health and Human Services under section 3022(b)(2)(A) of the Public Health Service Act [42 U.S.C. 300jj-52(b)(2)(A)], as amended, to impose civil money penalties on individuals and entities described in section 3022(b)(1)(A) and (C) of the Public Health Service Act that the Inspector General determines to have committed information blocking.

I hereby affirm and ratify any actions taken by the Inspector General, or any subordinates, that involved the exercise of the authority delegated herein prior to the effective date of the delegation.

This delegation is effective upon date of signature.

This delegation of authority may be redelegated.

Dated: June 29, 2023.
Xavier Becerra,
Secretary.

[FR Doc. 2023-14205 Filed 7-5-23; 8:45 am]

BILLING CODE 4152-01-P